COMMISSION ON CIVIL RIGHTS

Agenda and Notice of Public Meetings of the Massachusetts Advisory Committee

Notice is hereby given, pursuant to the provisions of the rules and regulations of the U.S. Commission on Civil Rights and the Federal Advisory Committee Act, that orientation, planning and briefing meetings of the Massachusetts Advisory Committee will convene at 12 p.m. on Wednesday, February 3, 2010, at the Harvard Law School Alumni Building, 125 Mount Auburn Street, Cambridge, Massachusetts, 02138. The purpose of the orientation meeting is to review the rules of operation for the Advisory Committee. The purpose of the planning meeting is for the Committee to begin project planning. The purpose of the briefing meeting is hear presentations from expert(s) about topical civil rights issues.

Members of the public are entitled to submit written comments; the comments must be received in the regional office by Wednesday, March 3, 2010. The address is: U.S. Commission on Civil Rights, Eastern Regional Office, 624 Ninth Street, NW., Suite 740, Washington, DC 20425. Persons wishing to e-mail their comments, or who desire additional information should contact Alfreda Greene, Secretary, at (202) 376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, January 14, 2010.
Peter Minarik,
Acting Chief, Regional Programs Coordination Unit.

[FR Doc. 2010-941 Filed 1-19-10; 8:45 am]

BILLING CODE 6335-01-P